Proclamation 10433 of August 31, 2022

National Ovarian Cancer Awareness Month, 2022

By the President of the United States of America

A Proclamation

This year, nearly 20,000 women in the United States will be diagnosed with ovarian cancer. Hard to detect and frequently discovered in advanced stages, this disease is often deadly for so many. Structural barriers inhibit access to quality and affordable health care, and documented disparities in treatment can lead to higher mortality rates for Black women and elderly women in particular. During Ovarian Cancer Awareness Month, our Nation honors those who are struggling with this dreaded disease, remembers the loved ones we have lost, and recommits to ending ovarian cancer—and all cancer—as we know it.

This issue is personal to me and the First Lady, as it is for so many families. Earlier this year, we reignited the Cancer Moonshot Initiative which I oversaw in 2016. The Cancer Moonshot Initiative has a goal of cutting the cancer death rate in half—at least—over the next 25 years. My Administration also created, and the Congress has funded, the Advanced Research Projects Agency for Health (ARPA-H) at the National Institutes of Health to revolutionize the way we detect and treat diseases like cancer, Alzheimer's, and diabetes. With improved screening and early detection technologies, diagnostics, treatments, and supportive care, we are on the cusp of real breakthroughs. The incidence of ovarian cancer has decreased over the last decades as survival rates have increased.

Of course, there is more work to do. I promised to protect and build on the Affordable Care Act (ACA), and that is exactly what my Administration will do—including by guaranteeing protections for women with preexisting conditions and preventing insurance companies from dropping patients with ovarian cancer. The ACA covers visits to a primary care physician and gynecologist without copayments or deductibles, which can lead to earlier detection of ovarian cancer. We must also increase diversity in clinical trials to ensure that new treatments will work for everyone and to better understand why ovarian cancer impacts some Americans more than others. My Administration will continue supporting the National Institutes of Health, the Food and Drug Administration, and other agencies as they broaden outreach to racial and ethnic minority populations and other underrepresented groups and assess whether cancer treatments will be effective for the diverse range of patients who need them.

Expanding access to care is especially critical as we emerge from the COVID-19 pandemic. In the early days of the pandemic, Americans missed almost 10 million cancer screenings. Medical experts in my Administration and around the country encourage women to reschedule these appointments as soon as possible. Additionally, the Centers for Disease Control and Prevention's (CDC) “Inside Knowledge about Gynecologic Cancer” website is a useful resource for information on ovarian cancer. For people who think they may be at risk for this disease, experts have compiled helpful information about ovarian cancer at cancer.gov/types/ovarianandcdc.gov/cancer. Being informed is a first step toward prevention.

As we observe National Ovarian Cancer month, we will never forget those we have lost. We honor our health care experts who work tirelessly to save lives. And we offer strength to women and families across this country fighting ovarian cancer today and in the future.

NOW, THEREFORE, I, JOSEPH R. BIDEN JR., President of the United States of America, by virtue of the authority vested in me by the Constitution and the laws of the United States, do hereby proclaim September 2022 as National Ovarian Cancer Awareness Month. I call upon the people of the United States to speak with their doctors and health care providers to learn more about ovarian cancer. I encourage citizens, government agencies, private businesses, nonprofit organizations, the media, and other interested groups to increase awareness of what Americans can do to detect and treat ovarian cancer.

IN WITNESS WHEREOF, I have hereunto set my hand this thirty-first day of August, in the year of our Lord two thousand twenty-two, and of the Independence of the United States of America the two hundred and forty-seventh.

[FR Doc. 2022-19282

Filed 9-2-22; 8:45 am]

Billing code 3395-F2-P